DEPARTMENT OF AGRICULTURE

Agricultural Marketing Service

[Doc. No. AMS-FGIS-23-0012]

Opportunity for United States Grain Standards Act (USGSA) Designation in the Texas Central Area

AGENCY: Agricultural Marketing Service, USDA.

ACTION: Notice; request for comments.

SUMMARY: The Agricultural Marketing Service (AMS) is seeking persons or governmental agencies interested in providing official services in the area noted below to submit an application for designation. Designation provides for private entities or state governmental agencies to be an integral part of the official grain inspection system (https://www.ams.usda.gov/services/fgis/official-grain-inspection-weighing-system). Designated agencies work under the supervision of the Federal Grain Inspection Service (FGIS) and are authorized to provide official inspection and/or weighing services in a defined geographical area. In addition, AMS requests comments on the USGSA service need in this area. AMS encourages submissions from traditionally underrepresented individuals, organizations, and businesses to reflect the diversity of this industry. AMS encourages submissions from qualified applicants, regardless of race, color, age, sex, sexual orientation, gender identity, national origin, religion, disability status, protected veteran status, or any other characteristic protected by law.

DATES: Applications for the Texas Central area and comments about the need for USGSA inspection and weighing services in this area must be received by May 3, 2023.

ADDRESSES: Submit applications and comments concerning this notice using any of the following methods:

• To Apply for USGSA Designation: You will need to obtain an FGISonline customer number (CIM) and create a USDA eAuthentication account at https://www.eauth.usda.gov/eauth/b/usda/home prior to applying. Then go to FGISonline at https://fgisonline.ams.usda.gov/ and then click on the Delegations/Designations and Export Registrations (DDR) link. Applicants are encouraged to begin the designation application process early and allow time for system authentication.

• To Submit Comments Regarding the Need for USGSA Services in the Texas Central Area: Go to Regulations.gov (https://www.regulations.gov). Instructions for submitting and reading comments are detailed on the site. Interested persons are invited to submit written comments concerning this notice. All comments must be submitted through the Federal e-rulemaking portal at https://www.regulations.gov and should reference the document number and the date and page number of this issue of the Federal Register. All comments submitted in response to this notice will be included in the record and will be made available to the public. Please be advised that the identity of the individuals or entities submitting comments will be made public on the internet at the address provided above.

Read Applications and Comments: To view the applications, please contact FGISQACD@usda.gov. All comments will be available for public inspection online at https://www.regulations.gov.

FOR FURTHER INFORMATION CONTACT: Jacob Thein, Compliance Officer; Federal Grain Inspection Service, AMS, USDA; Telephone (816) 308-1351; Email: FGISQACD@usda.gov.

SUPPLEMENTARY INFORMATION: Sec. 7(f) of the United States Grain Standards Act (USGSA) authorizes the Secretary to designate a qualified applicant to provide official services in a specified area after determining the applicant is better able than any other applicant to provide such official services (7 U.S.C. 79(f)). A designated agency may provide official inspection service and/or Class X or Class Y weighing services at locations other than export port locations. Under sec. 7(g) of the USGSA, designations of official agencies may be awarded for no longer than five years, unless terminated by the Secretary, and may be renewed according to the criteria and procedures prescribed in sec. 7(f) of the USGSA. See also 7 CFR 800.196 for further information and guidance.

Designation Application Locations

The following geographic area is open for application.

In Texas, the counties of: Anderson, Angelina, Atascosa, Austin, Bandera, Bastrop, Bell, Bexar, Blanco, Bosque, Brazos, Brewster, Brown, Burleson, Burnet, Caldwell, Camp, Cherokee, Coke, Coleman, Collin, Comal, Comanche, Concho, Cooke, Coryell, Crane, Crockett, Culberson, Dallas, Delta, Denton, DeWitt, Eastland, Ector, Edwards, Ellis, El Paso, Erath, Falls, Fannin, Fayette, Franklin, Freestone, Frio, Gillespie, Glasscock, Gonzales, Grayson, Gregg, Grimes, Guadalupe, Hamilton, Hardin, Harrison, Hays, Henderson, Hill, Hood, Hopkins, Houston, Hudspeth, Hunt, Irion, Jack, Jasper, Jeff Davis, Johnson, Karnes, Kaufman, Kendall, Kerr, Kimble, Kinney, Lamar, Lampasas, Lavaca, Lee, Leon, Liberty, Limestone, Llano, Loving, McCulloch, McLennan, Madison, Marion, Mason, Maverick, Medina, Menard, Midland, Milam, Mills, Montague, Montgomery, Morris, Nacogdoches, Navarro, Newton, Orange, Palo Pinto, Panola, Parker, Pecos, Polk, Presidio, Rans, Reagan, Real, Red River, Reeves, Robertson, Rockwall, Runnels, Risk, Sabine, San Augustine, San Jacinto, San Saba, Schleicher, Shelby, Smith, Somervell, Stephens, Sterling, Sutton, Tarrant, Terrell, Titus, Tom Green, Travis, Trinity, Tyler, Upshur, Upton, Uvalde, Val Verde, Van Zandt, Walker, Ward, Washington, Williamson, Wilson, Winkler, Wise, Wood, Young, and Zavala.

Excludes any established or future export port locations which are serviced by FGIS.

Opportunity for Designation

Interested persons or governmental agencies may apply for designation to provide official services in the geographic area noted above under the provisions of sec. 7(f) of the USGSA and 7 CFR 800.196. Applicants may apply for all or part of the Texas Central geographic area. The designation time frame for the Texas Central area will be determined as part of this application process provided that there is at least one qualified applicant. For more information on how to apply for designation or to request more information about this geographic area, please contact FGISQACD@usda.gov.

Please note that sampling, weighing, and inspection services may be offered by designated agencies under the Agricultural Marketing Act of 1946 for other commodities under the authority of FGIS through separate cooperative service agreements with AMS. The coverage area for cooperative service agreements generally aligns with the USGSA designation area. For further information, see 7 U.S.C. 1621 et seq. or contact FGISQACD@usda.gov.

Request for Comments

AMS is also publishing this notice to provide interested persons the opportunity to comment on the need for USGSA services in the Texas Central area as noted and any adjacent area service needs. All comments should be submitted through the Federal e-rulemaking portal at https://www.regulations.gov. In the event any applicants are deemed qualified, AMS may issue an additional notice requesting public comment about the applicant(s) and their ability to provide quality official services.

AMS considers applications, comments, and other available information when determining which applicants may be designated.

Authority: 7 U.S.C. 71-87k.

Melissa Bailey,
Associate Administrator, Agricultural Marketing Service.

[FR Doc. 2023-06763 Filed 3-31-23; 8:45 am]

BILLING CODE P